SMALL BUSINESS ADMINISTRATION

[Disaster Declaration #21340 and #21341; MISSOURI Disaster Number MO-20013]

Presidential Declaration of a Major Disaster for the State of Missouri

AGENCY: U.S. Small Business Administration.

ACTION: Notice.

SUMMARY: This is a Notice of the Presidential declaration of a major disaster for the State of Missouri (FEMA-4872-DR), dated October 22, 2025.

Incident: Severe Storms, Straight-line Winds, Tornadoes, and Flooding.

DATES: Issued on October 22, 2025.

Incident Period: March 30, 2025 through April 8, 2025.

Physical Loan Application Deadline Date: December 22, 2025.

Economic Injury (EIDL) Loan Application Deadline Date: July, 22, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given as a result of the President's major disaster declaration on October 22, 2025, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): Bollinger, Butler, Cape Girardeau, Carter, Cooper, Dunklin, Howell, Iron, Mississippi, New Madrid, Oregon, Ozark, Reynolds, Ripley, Scott, Shannon, Stoddard, Vernon, Washington, Wayne.

Contiguous Counties (Economic Injury Loans Only):

Missouri: Barton, Bates, Boone, Cedar, Crawford, Dent, Douglas, Franklin, Howard, Jefferson, Madison, Moniteau, Morgan, Pemiscot, Perry, Pettis, Saline, St. Clair, St. Francois, Taney, Texas.

Arkansas: Baxter, Clay, Craighead, Fulton, Greene, Marion, Mississippi, Randolph, Sharp.

Illinois: Alexander, Union.

Kansas: Bourbon, Crawford, Linn.

Kentucky: Ballard, Carlisle, Fulton, Hickman.

Tennessee: Lake.

The Interest Rates are:

| Percent
For Physical Damage:
Homeowners with Credit Available Elsewhere | 5.500
Homeowners without Credit Available Elsewhere | 2.750
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 21340C and for economic injury is 213410.

(Catalog of Federal Domestic Assistance Number 59008)

(Authority: 13 CFR 1234.3(b).)

James Stallings,
Associate Administrator, Office of Disaster Recovery & Resilience.

[FR Doc. 2025-19718 Filed 10-29-25; 8:45 am]

BILLING CODE 8026-09-P